DEPARTMENT OF VETERANS AFFAIRS

Privacy Act of 1974; System of Records

AGENCY: Department of Veterans Affairs.

ACTION: Notice of Amendment to an Existing System of Records.

SUMMARY: As required by the Privacy Act of 1974 (5 U.S.C. 552(e)(4)), notice is hereby given that the Department of Veterans Affairs (VA) proposes to amend the existing system of records titled “Compensation, Pension, Education, and Vocational Rehabilitation and Employment Records—VA (58VA21/22/28).” VA is amending the system of records by adding a new system location and a new routine use regarding transfer of educational benefits under the new Post-9/11 GI Bill.

DATES: Comments on this amended system of records must be received no later than May 27, 2010.

ADDRESSES: Written comments may be submitted through http://www.Regulations.gov; by mail or hand-delivery to the Director, Regulations Management (02REG), Department of Veterans Affairs, 810 Vermont Avenue, NW., Room 1068, Washington, DC 20420; or by fax to (202) 273-9026. Copies of comments received will be available for public inspection in the Office of Regulation Policy and Management, Room 1063B, between the hours of 8 a.m. and 4:30 p.m., Monday through Friday (except holidays). Please call (202) 273-9515 for an appointment. (This is not a toll-free number.) In addition, during the comment period, comments may be viewed online through the Federal Docket Management System (FDMS) at http://www.Regulations.gov.

FOR FURTHER INFORMATION CONTACT: Shayla V. Mitchell, Management and Program Analyst, Education Service (225C), Department of Veterans Affairs, 810 Vermont Avenue, NW., Washington, DC 20420 telephone (202) 461-1483.

SUPPLEMENTARY INFORMATION: VA proposes to update the system location to include the location of a new facility where active educational assistance records will be housed. VA also proposes to add a routine use that will permit the disclosure of information on transferred educational assistance benefits to the individual from whom eligibility was derived, the transferor, and the individual who received the educational benefits, the transferee.

VA proposes to disclose claim specific information to a transferor since the transferor may terminate, deny, suspend, add, or reduce educational benefits to an eligible dependent at any time during the individual's eligibility period. Since both the transferor and the dependent are coequally responsible for any debt incurred by the dependent, both parties should have access to all information pertaining to such entitlement.

The Privacy Act permits VA to disclose information about individuals without their consent for a routine use when the information will be used for a purpose that is compatible with the purpose for which the information was collected.

The report of intent to amend and an advance copy of the proposed changes have been sent to the appropriate Congressional committees and to the Director of the Office of Management and Budget (OMB), as required by 5 U.S.C. 552a(r) (Privacy Act) and guidelines issued by OMB (65 FR 977677), December 12, 2000.

The proposed new routine use numbered 65 will be added to the system of records titled “Compensation, Pension, Education, and Vocational Rehabilitation and Employment Records—VA” (58VA21/22/28), published in the Federal Register at 74 FR 29275 (6/19/09).

Notice of Amendment to System Location

System Location:

Records are maintained at VA regional offices and centers; the VA Records Management Center in St. Louis, Missouri; the Data Processing Center at Hines, Illinois; the Corporate Franchise Data Center in Austin, Texas; and the Information Technology Center in Philadelphia, Pennsylvania. Active records are generally maintained by the regional office having jurisdiction over the domicile of the claimant. Active educational assistance records are generally maintained at the regional processing office having jurisdiction over the educational institution, training establishment, or other entity where the claimant pursues or intends to pursue training and Terremark Worldwide, Inc., Federal Hosting Facility in Culpepper, Virginia.

* * * * *

Notice of Amendment of System of Records

The system identified as 58VA21/22/28 Compensation, Pension, Education and Vocational Rehabilitation and Employment Records—VA published in the Federal Register at 74 FR 29275 (6/19/09) is revised to add new routine use numbered 65.

* * * * *

65. Information in this system (excluding date of birth, social security number, and address) relating to the use of transferred educational assistance benefits may be coequally disclosed to the transferor, i.e., the individual from whom eligibility was derived, and to each transferee, i.e., the individual receiving the transferred benefit. The information disclosed is limited to the two parties in each transferor-transferee relationship, as the transferor may have multiple transferred relationships.

* * * * *

Approved: April 9, 2010.
John R. Gingrich,
Chief of Staff, Department of Veterans Affairs.

[FR Doc. 2010-9755 Filed 4-26-10; 8:45 am]

BILLING CODE 8320-01-P